DEPARTMENT OF THE INTERIOR

Bureau of Safety and Environmental Enforcement

[Docket ID BSEE-2014-0004; OMB Control Number 1014-0018; 14XE1700DX EEEE500000 EX1SF0000.DAQ000]

Information Collection Activities: Oil and Gas Drilling Operations; Submitted for Office of Management and Budget (OMB) Review; Comment Request

ACTION: 30-day notice.

SUMMARY: To comply with the Paperwork Reduction Act of 1995 (PRA), BSEE is notifying the public that we have submitted to OMB an information collection request (ICR) for review and approval of the paperwork requirements in the regulations under Subpart D, Oil and Gas Drilling Operations. This notice also provides the public a second opportunity to comment on the revised paperwork burden of these regulatory requirements.

DATES: You must submit comments by October 10, 2014.

ADDRESSES: Submit comments by either fax (202) 395-5806 or email (OIRA_Submission@omb.eop.gov) directly to the Office of Information and Regulatory Affairs, OMB, Attention: Desk Officer for the Department of the Interior (1014-0018). Please provide a copy of your comments to BSEE by any of the means below.

• Electronically go to http://www.regulations.gov. In the Search box, enter BSEE-2014-0004 then click search. Follow the instructions to submit public comments and view all related materials. We will post all comments.

• Email nicole.mason@bsee.gov, fax (703) 787-1546, or mail or hand-carry comments to the Department of the Interior; Bureau of Safety and Environmental Enforcement; Regulations and Standards Branch; ATTN: Nicole Mason; 381 Elden Street, HE3313; Herndon, Virginia 20170-4817. Please reference ICR 1014-0018 in your comment and include your name and return address.

FOR FURTHER INFORMATION CONTACT: Nicole Mason, Regulations and Standards Branch, (703) 787-1605, to request additional information about this ICR. To see a copy of the entire ICR submitted to OMB, go to http://www.reginfo.gov (select Information Collection Review, Currently Under Review).

SUPPLEMENTARY INFORMATION: Title: 30 CFR 250, Subpart D, Oil and Gas Drilling Operations.

Form(s): BSEE-0125; BSEE-0133, BSEE-0133S, and BSEE-0144.

OMB Control Number: 1014-0018.

Abstract: The Outer Continental Shelf (OCS) Lands Act at 43 U.S.C. 1334 authorizes the Secretary of the Interior to prescribe rules and regulations necessary for the administration of the leasing provisions of the Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

In addition to the general rulemaking authority of the OCS Lands Act at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to the Bureau of Safety and Environmental Enforcement (BSEE), 30 U.S.C. 1751 is included as additional authority for these requirements.

These authorities and responsibilities are among those delegated to BSEE.

The regulations at 30 CFR 250, subpart D, concern oil and gas drilling operations and are the subject of this collection. This request also covers any related Notices to Lessees and Operators (NTLs) that BSEE issues to clarify, supplement, or provide additional guidance on some aspects of our regulations.

This ICR includes four forms. In this submission, we have included a certification statement on all the forms to state that false submissions are subject to criminal penalties.

A minor change to include Alaska and Pacific OCS Regional contact information was made on Form BSEE-0144.

Once this ICR is approved, the revisions will be added to the forms and the eWell screen shot(s), and the revised PRA statement will be posted on the eWell Web site.

Regulations implementing these responsibilities are among those delegated to BSEE. Responses are mandatory or are required to obtain or retain a benefit. No questions of a sensitive nature are asked. The BSEE protects information considered proprietary under the Freedom of Information Act (5 U.S.C. 552) and DOI's implementing regulations (43 CFR 2), and under regulations at 30 CFR Part 250.197, Data and information to be made available to the public or for limited inspection, 30 CFR Part 252, OCS Oil and Gas Information Program.

The BSEE uses the information to ensure safe drilling operations and to protect the human, marine, and coastal environment. Among other things, BSEE specifically uses the information to ensure:

• The drilling unit is fit for the intended purpose;

• the lessee or operator will not encounter geologic conditions that present a hazard to operations;

• equipment is maintained in a state of readiness and meets safety standards;

• each drilling crew is properly trained and able to promptly perform well-control activities at any time during well operations; and

• compliance with safety standards; and

• the current regulations will provide for safe and proper field or reservoir development, resource evaluation, conservation, protection of correlative rights, safety, and environmental protection.

We also review well records to ascertain whether drilling operations have encountered hydrocarbons or H2S and to ensure that H2S detection equipment, personnel protective equipment, and training of the crew are adequate for safe operations in zones known to contain H2S and zones where the presence of H2S is unknown.

Frequency: On occasion, daily, weekly, monthly, quarterly, annually, and varies by section.

Description of Respondents: Potential respondents comprise Federal OCS oil, gas, or sulphur lessees and/or operators.

Estimated Reporting and Recordkeeping Hour Burden: The estimated annual hour burden for this ICR is a total of 102,512 hours. The following chart details the individual components and estimated hour burdens. In calculating the burdens, we assumed that respondents perform certain requirements in the normal course of their activities. We consider these to be usual and customary and took that into account in estimating the burden.

Citation 30 CFR 250 subpart D and NTL(s) | Reporting and recordkeeping requirement* | Hour burden | Average number of annual responses | Annual burden hours (rounded)
General Requirements
402(b) | Request approval to use blind or blind-shear ram or pipe rams and inside BOP | 0.5 | 352 requests | 176
403 | Notify BSEE of drilling rig movement on or off drilling location (BSEE-0144) | 0.2 | BSEE-0144 312 forms | 63
404 | Perform operational check of crown block safety device; record results (weekly) | 0.25 | 86 drilling rigs × 52 weeks = 4,472 records | 1,118
408, 409 | Apply for use of alternative procedures and/or departures not requested in BSEE forms (including discussions with BSEE or oral approvals) | Burden covered under 1014-0025. | 0
Subtotal |  |  | 5,136 | 1,357
Apply for a Permit to Drill
408-418, 420(a)(6); 423(b)(3), (c); 449(j), (k); 456(j); plus in subparts A, B, D, E, H, P, Q. | Submit Application for Permit to Drill (APD Form BSEE-0123 and BSEE-0123S) that includes any/all supporting documentation and requests for various approvals required in subpart D (including §§ 250.425(a), 427, 428, 432, 447(c), 448(b),(c), 451(g), 460, 490(c)) submitted via the form; upon request, make available to BSEE | Burden covered under 1014-0025. |  | 0
410(b); 417(b) | Reference Well and site-specific information approved in your Exploration Plan, Development and Production Plan, Development Operations Coordination Document in your APD | Burdens pertaining to EPs, DPPs, DOCDs are covered under BOEM 1010-0151 and APDs are covered under 1014-0025. |  | 0
416(g)(2) | Provide 72 hour advance notice of location of shearing ram tests or inspections; allow BSEE access to witness testing, inspections, and information verification | 0.25 | 156 notifications | 39
416(g)(2) | Submit evidence that demonstrates that the Registered Professional Engineer/firm has the expertise and experience necessary to perform the verification(s); allow BSEE access to witness testing; verify info submitted to BSEE | 0.25 | 733 submittals | 184
417(a), (b) | Collect and report additional information on case-by-case basis if sufficient information is not available | 5 | 46 reports | 230
417(c) | Submit 3rd party review of drilling unit according to 30 CFR 250, subpart I | Burden covered under 1014-0011. |  | 0
418(e) | Submit welding and burning plan according to 30 CFR 250, subpart A | Burden covered under 1014-0022. |  | 0
Subtotal |  |  | 935 | 453
Casing and Cementing Requirements
420(b)(3) | Submit dual mechanical barrier documentation after installation | 0.75 | 533 submittals | 400
420(b)(3) | Request approval for alternative options to installing barriers | 0.25 | 58 requests | 15
423(a) | Request and receive approval from District Manager for repair | 0.5 | 86 requests | 43
423(b)(4), (c)(2) | Perform pressure casing test; document results and make available to BSEE upon request | 0.75 | 1,606 tests | 1,205
423(c)(5) | Immediately contact District Manager when problem corrected due to failed negative pressure test; submit a description of corrected action taken; and receive approval from District Manager to retest | 1 | 20 notifications | 20
423(c)(7) | Submit documentation of successful negative pressure test in the End of Operations Report (EOR, Form BSEE-0125) | 2 | BSEE-0125 45 submittals | 90
424 | Caliper, pressure test, or evaluate casing; submit evaluation results; request approval before resuming operations or beginning repairs (every 30 days during prolonged drilling) | 1 | 68 requests | 68
425(a) | Request approval from District Manager to use other test pressures for liners | Burden covered under 1014-0025. |  | 0
426 | Record results of all casing and liner pressure tests | 2 | 4,259 record results | 8,518
427(a) | Record results of all pressure integrity tests and hole behavior observations re-formation integrity and pore pressure | 2 | 4,226 record results | 8,452
Subtotal |  |  | 10,901 | 18,811
Diverter System Requirements
434; 467 | Perform diverter tests when installed and once every 7 days; actuate system at least once every 24-hour period; record results (average 2 per drilling operation); retain all charts/reports relating to diverter tests/actuations at facility for duration of drilling well | 2 | 620 records | 1,240
Subtotal |  |  | 620 | 1,240
Blowout Preventer (BOP) System Requirements
442(c) | Request alternative method for the accumulator system | Burden covered under 1014-0022. | 0
442(f)(3) | Demonstrate that your secondary control system will function properly | 5 | 6 validations | 30
442(h) | Label all functions on all panels | 1.5 | 45 panels | 68
442(i) | Develop written procedures for management system for operating the BOP stack and LMRP | 8 | 39 procedures | 312
442(j) | Establish minimum requirements for authorized personnel to operate critical BOP equipment; require training | Burden covered under 1014-0008 |  | 0
446(a) | Document BOP maintenance and inspection procedures used; record results of BOP inspections and maintenance actions; maintain records for 2 years; make available to BSEE upon request | 3 | 86 records | 258
447(c) | Request approval from District Manager to omit BOP pressure test. Indicate which casing strings and liners meet the criteria of this section | Burden covered under 1014-0025. |  | 0
449(j)(2) | Notify District Manager at least 72 hours prior to stump/initial test on seafloor | 0.25 | 150 notifications | 38
449(j)(3) | Document all ROV intervention function test results; make available to BSEE upon request | 1 | 150 tests | 150
449(k) | Document all autoshear and deadman function test results for your subsea BOP systems; make available to BSEE upon request. | Burden covered under 1014-0025. |  | 0
450; 467 | Document and record BOP pressure tests results, actuations and inspections; at a minimum every 14 days; as stated for components; sign as correct. Retain all records, including charts, reports, and referenced documents for the duration of drilling the well | 11 | 236 test results | 2,596
451(c) | Record reason for postponing BOP test (on occasion—approx. 2/year) in driller's report | 0.25 | 86 records | 22
451(g) | Demonstrate that well control procedures/well conditions will not place demands above its rating working pressure and obtain approval from District Manager | Burden covered under 1014-0025. |  | 0
Subtotal |  |  | 798 | 3,474
Drilling Fluid Requirements
456(b), (i) | Document/record in the driller's report every time you circulate drilling fluid; results of drilling fluid tests | 1 | 4,160 records | 4,160
456(c), (f) | Perform various calculations; post calculated drill pipe, collar, and drilling fluid volume; as well as maximum pressures | 1 | 4,259 postings | 4,259
456(j) | Submit detailed step-by-step procedures describing displacement of fluids with your APD (this submittal obtains District Manager approval) | Burden covered under 1014-0025. |  | 0
458(b) | Record daily drilling fluid and materials inventory in drilling fluid report | 0.5 | 30,295 records | 15,148
459(a)(3) | Request exception to procedure for protecting negative pressure area | Burden included under 1014-0022. |  | 0
Subtotal |  |  | 38,714 | 23,567
Other Drilling Requirements
449(j); 460; 465; plus in A, D, E, F, H, P, and Q | Provide revised plans and the additional supporting information required by the cited regulations when you submit an Application for Permit to Modify (APM) (Form BSEE-0124) to BSEE for approval; or a Revised APM | Burden covered under 1014-0026. |  | 0
420(b)(3); 423(b)(7); 465(a); plus various ref in A, E, F, and P | Submit Form BSEE-0125, End of Operations Report (EOR), and additional supporting information as required by the cited regulations | 2 | BSEE-0125 279 submittals | 558
460 | Submit plans and obtain approval to conduct well test; notify BSEE before test | Burden covered under 1014-0025. |  | 0
461(a-b); 466(e); 468(a); NTL | Record and submit well logs and surveys run in the wellbore and/or charts of well logging operations (including but not limited to) | 3 | 302 logs/surveys | 906
| Record and submit directional and vertical-well surveys | 1 | 302 reports | 302
| Record and submit velocity profiles and surveys | 1 | 45 reports | 45
| Record and submit core analyses | 1 | 130 analyses | 130
461(e) | Provide copy of well directional survey to affected leaseholder | 0.75 | 11 occasions | 9
462(a) | Prepare and post well control drill plan for crew members | 0.5 | 314 plans | 157
462(c) | Record results of well-control drills | 1 | 8,632 results | 8,632
463(b) | Request field drilling rules be established, amended, or canceled | 4 | 6 requests | 24
465(a)(1) 428, 449(j) & k(1), 456(j) | Obtain approval to revise your drilling plan or change major drilling equipment by submitting a revised BSEE-0123, Application for Permit to Drill and BSEE-0123S, Supplemental APD Information Sheet | Burden covered under 1014-0025. |  | 0
Subtotal |  |  | 10,021 | 10,763
Applying for a Permit to Modify and Well Records
466, 467 | Retain drilling records for 90 days after drilling is complete; retain casing/liner pressure, diverter, and BOP records for 2 years; retain well completion/well workover until well is permanently plugged/abandoned or lease is assigned | 2.15 | 3,526 records | 7,581
468(b); 465(b)(3) | In the GOM OCS Region, submit drilling activity reports weekly on Forms BSEE-0133 (Well Activity Report) and BSEE-0133S (Bore Hole Data) and supporting information. (The burden includes approximately 1 hour per response for filling out these forms.) | 1 | BSEE-0133 4,160 submittals | 4,160
|  | 1 | BSEE-0133S 4,160 submittals | 4,160
468(c) | In the Pacific and Alaska OCS Regions during drilling operations, submit daily drilling reports N/A in GOM | 1 | 33 wells × 365 days × 20% year = 2,409 reports | 2,409
469; NTL | As specified by region, submit well records, paleontological interpretations or reports, service company reports, and other reports or records of operations | 1.5 | 341 submissions | 512
Subtotal |  |  | 14,596 | 18,822
Hydrogen Sulfide
490(c), (d) | Submit request for reclassification of H2S zone; notify BSEE if conditions change | Burden covered under 1014-0025. |  | 0
490(f); also in 418(d) | Submit contingency plans for operations in H2S areas (16 drilling, 6 work-over, 6 production) | 30 | 28 plans | 840
490(g) | Post safety instructions; document training; retain records at facility where employee works; train on occasion and/or annual refresher (approx. 2/year) | 4 | 34 records | 136
490(h)(2) | Document and retain attendance for weekly H2S drills and monthly safety mtgs until operations completed or for 1 year for production facilities at nearest field office | 2 | 2,514 records | 5,028
490(i) | Display warning signs—no burden as facilities would display warning signs and use other visual and audible systems. |  |  | 0
490(j)(7-8) | Record H2S detection and monitoring sensors during drilling testing and calibrations; make available upon request | 4 | 4,328 records | 17,312
490(j)(12) | Propose alternatives to minimize or eliminate SO2 hazards—submitted with contingency plans—burden covered under § 250.490(f) |  |  | 0
490(j)(13) (vi) | Label breathing air bottles—no burden as supplier normally labels bottles; facilities would routinely label if not. |  |  | 0
490(l) | Notify without delay of unplanned H2S releases (approx. 2/year) |  |  |
|  | Oral 0.2 | 24 notifications | 5
|  | Written 5 | 24 written reports | 120
490(o)(5) | Request approval to use drill pipe for well testing | 2 | 4 requests | 8
490(q)(1) | Seal and mark for the presence of H2S cores to be transported—no burden as facilities would routinely mark transported cores |  |  | 0
490(q)(9) | Request approval to use gas containing H2S for instrument gas | 2 | 2 requests | 4
490(q)(12) | Analyze produced water disposed of for H2S content and submit results to BSEE | 3 | 164 submittals | 492
Subtotal |  |  | 7,122 | 23,945
Miscellaneous
400-490 | General departure or alternative compliance requests not specifically covered elsewhere in subpart D | 2 | 30 requests | 60
NTL | Voluntary submit to USCG read only access to the EPIRB data for their moored drilling rig fleet before hurricane season | .25 | 80 submittals | 20
Subtotal |  |  | 110 | 80
Total Burden |  |  | 88,953 | 102,512
* The forms mentioned in this collection, for the most part, are currently submitted electronically using eWell. In the future, BSEE will be allowing the option of electronic reporting for certain requirements not necessarily associated with a form.

Estimated Reporting and Recordkeeping Non-Hour Cost Burden: We have not identified any non-hour cost burdens associated with this collection of information.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on April 14, 2014, we published a Federal Register notice (79 FR 20897) announcing that we would submit this ICR to OMB for approval. The notice provided the required 60-day comment period. In addition, § 250.199 provides the OMB Control Number for the information collection requirements imposed by the 30 CFR Part 250, Subpart D regulations and forms. The regulation also informs the public that they may comment at any time on the collections of information and provides the address to which they should send comments. We received one comment in response to the Federal Register notice. We offer the following in response: the commenter has expressed concern over the certification statement we are adding to the forms associated with this collection will be “elevating” the accuracy of information submitted on the forms to “criminal” status. The certification statement on the forms is a standard statement on many Government forms. Anyone who knowingly submits false information to the Government may be subject to civil and criminal penalties even if the statement does not appear on the form. The statement is intended to remind submitters that there are penalties for intentional false statements and BSEE has a range of enforcement options available to ensure the Government has the information it needs to promote safe and environmentally protective operations on the OCS.

Another concern expressed by the commenter was in reference to information/questions on Form BSEE-0123 being unnecessary or already submitted in eWell. With respect to the information submitted on paper forms versus eWell, BSEE has initiated the eWell System for all three BSEE OCS Regions. To date, only the Gulf of Mexico Region has eWell fully operational. With that said, operators/lessees must be given the option to use paper forms until all three BSEE OCS Regions can utilize eWell. Currently 100 percent of all paper forms are being submitted in the Pacific OCS Region and the Alaska OCS Region.

In regards to the commenters concerns about proposed changes to Form BSEE-0125 being redundant with Form BOEM-0140, BSEE agrees this is duplicative information and has removed Nos. 34(a)-Bottom Hole Pressure and 34(b)-Bottom Hole Temperature from Form BSEE-0125.

With respect to the commenters concerns that BSEE is significantly underestimating the burden hours associated with Form BSEE-0123-Application for Permit to Drill (APD), BSEE agrees. Between the 60-day FR notice (79 FR 20897, April 14, 2014) associated with this collection and this submission, we removed the APD—BSEE-0123, including a revised APD, Supplemental APD Information Sheet (BSEE-0123S), and those regulatory requirements that were previously associated with this collection. We separated out these requirements and burdens and put them into a separate information collection so that both industry and BSEE will have a better understanding of the complexities associated with all the information that is submitted and will reflect more accurate burden estimates. The OMB approved the request and assigned the APD ICR with OMB Control Number 1014-0025 on April 29, 2014. As stated previously, all information collection Federal Register notices provide an opportunity to comment on the burdens during the 60- and 30-day comment period, as well as commenting to OMB anytime on the information collection burdens. We received no comments during the 60- or 30-day comment period during the APD ICR process.

Public Availability of Comments: Before including your address, phone number, email address, or other personal identifying information in your comment, you should be aware that your entire comment—including your personal identifying information—may be made publicly available at any time. While you can ask us in your comment to withhold your personal identifying information from public review, we cannot guarantee that we will be able to do so.

Information Collection Clearance Officer: Cheryl Blundon, 703-787-1607.

Dated: August 21, 2014.
Robert W. Middleton,
Deputy Chief, Office of Offshore Regulatory Programs.

[FR Doc. 2014-21586 Filed 9-9-14; 8:45 am]

BILLING CODE 4310-VH-P